ENVIRONMENTAL PROTECTION AGENCY

[CERCLA-04-2024-7002- et al.; FRL-11984-01-R4]

Bennett Landfill Fire Superfund Site, Chester, South Carolina; Proposed Settlements

AGENCY: Environmental Protection Agency (EPA).

ACTION: Notice of proposed settlements.

SUMMARY: Under the Comprehensive Environmental Response, Compensation and Liability Act (CERCLA), the United States Environmental Protection Agency is proposing to enter into individual settlements with seven additional parties concerning the Bennett Landfill Fire Site located in Chester, South Carolina. The proposed settlements address recovery of EPA's costs incurred performing a CERCLA cleanup at the Site.

DATES: The Agency will consider public comments on the proposed settlements until July 11, 2024. The Agency will consider all comments received and may modify or withdraw its consent to the proposed settlements if comments received disclose facts or considerations which indicate that the proposed settlements are inappropriate, improper, or inadequate.

ADDRESSES: Copies of the proposed settlements are available from the Agency by contacting Ms. Paula V. Painter, Program Analyst, using the contact information provided in this notice. Comments may also be submitted by referencing the Site's name through one of the following methods:

Internet: https://www.epa.gov/aboutepa/about-epa-region-4-southeast#r4-public-notices

Email: Painter.Paula@epa.gov

FOR FURTHER INFORMATION CONTACT: Paula V. Painter at 404/562-8887.

SUPPLEMENTARY INFORMATION: The individual proposed settlements are as follows: Clear Site Industrial, LLC, 04-2024-7002, Spartanburg Regional Healthcare Services District, Inc., 04-2024-7004, Johns Manville, 04-2024-7003, International Paper Co., 04-2024-7007, Durham Timber, Inc. 04-2024-7006, Kohler Co., 04-2024-7009, Bellsouth Telecommunications, LLC, 04-2024-7008.

Maurice Horsey,
Branch Manager, Enforcement Branch, Superfund & Emergency Management Division.

[FR Doc. 2024-12721 Filed 6-10-24; 8:45 am]

BILLING CODE 6560-50-P